DEPARTMENT OF ENERGY

Federal Energy Regulatory Commission

Combined Notice of Filings

Take notice that the Commission has received the following Natural Gas Pipeline Rate and Refund Report filings:

Filings Instituting Proceedings

Docket Numbers: CP16-469-000.

Applicants: ANR Storage Company.

Description: Abbreviated Application of ANR Storage Company for Approval to Abandon Individually Certificated Part 157 Service and Provide Part 284 Service.

Filed Date: 6/16/16.

Accession Number: 20160616-5109.

Comments Due: 5 p.m. ET 7/15/16.

Docket Numbers: RP16-1082-000.

Applicants: Columbia Gas Transmission, LLC.

Description: Petition for Approval of Settlement of Columbia Gas Transmission, LLC.

Filed Date: 6/30/16.

Accession Number: 20160630-5425.

Comments Due: 5 p.m. ET 7/12/16.

Docket Numbers: RP16-1083-000.

Applicants: MIGC LLC.

Description: Annual Fuel Retention Percentage Tracker of MIGC LLC.

Filed Date: 7/1/16.

Accession Number: 20160701-5344.

Comments Due: 5 p.m. ET 7/13/16.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

Filings in Existing Proceedings

Docket Numbers: RP01-382-026.

Applicants: Northern Natural Gas Company.

Description: Northern Natural Gas Company submits Carlton Reimbursement Report.

Filed Date: 6/1/16.

Accession Number: 20160601-5395.

Comments Due: 5 p.m. ET 6/18/16.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 11, 2016.
Nathaniel J. Davis, Sr.,
Deputy Secretary.

[FR Doc. 2016-16879 Filed 7-15-16; 8:45 am]

BILLING CODE 6717-01-P